DEPARTMENT OF TRANSPORTATION

Federal Aviation Administration

14 CFR Part 39

[Docket No. 2000-NM-345-AD; Amendment 39-11969; AD 2000-22-21]

RIN 2120-AA64

Airworthiness Directives; McDonnell Douglas Model DC-10, Model MD-10, and Model MD-11 Series Airplanes

AGENCY: Federal Aviation Administration, DOT.

ACTION: Final rule; request for comments.

SUMMARY: This amendment adopts a new airworthiness directive (AD) that is applicable to all McDonnell Douglas Model DC-10, Model MD-10, and Model MD-11 series airplanes. This action requires revising the Airplane Flight Manual (AFM) to ensure that the flight crew is advised of appropriate procedures for disabling certain fuel pump electrical circuits following failure of a fuel pump electrical connector. For certain airplanes, this action also requires revising the AFM to prohibit resetting of tripped fuel pump circuit breakers. This action is necessary to prevent continued arcing following a short circuit of the fuel pump electrical connector, which could damage the conduit that protects the power lead inside the fuel tank, and result in the creation of a potential ignition source in the fuel tank. This action is intended to address the identified unsafe condition.

DATES: Effective December 5, 2000.

The incorporation by reference of certain publications listed in the regulations is approved by the Director of the Federal Register as of December 5, 2000.

Comments for inclusion in the Rules Docket must be received on or before January 19, 2001.

ADDRESSES: Submit comments in triplicate to the Federal Aviation Administration (FAA), Transport Airplane Directorate, ANM-114, Attention: Rules Docket No. 2000-NM-345-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2000-NM-345-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION: The FAA has received reports of four incidents on McDonnell Douglas Model DC-10 and MD-11 series airplanes, in which a short circuit occurred in the electrical connector between the power lead and the housing of a fuel pump. The circuit breaker did not trip in any of these incidents because the electrical arcing that occurred was shorter in duration than necessary for the circuit breaker to detect the arcing and open the circuit. In the event of such a short circuit of a fuel pump electrical connector, continued arcing of the electrical connector could damage the conduit that protects the power lead inside the fuel tank, which could create a potential ignition source in the fuel tank.

The subject fuel pump electrical connector on all McDonnell Douglas Model MD-10 series airplanes is identical to that on McDonnell Douglas Model DC-10 and MD-11 series airplanes on which the incidents occurred. Therefore, all of these airplanes may be subject to the unsafe condition described above.

In addition, the Procedures Section of the FAA-approved Airplane Flight Manual (AFM) for McDonnell Douglas Model DC-10 and certain MD-11 series airplanes permits the flight crew to reset the fuel pump circuit breaker one time if the circuit breaker is tripped. (If it is tripped again, the AFM prohibits resetting it.) However, tripping of the circuit breaker may be caused by arcing following short circuit of a fuel pump electrical connector. Resetting the fuel pump circuit breaker if it is tripped due to arcing could allow arcing to continue and create a potential ignition source in the fuel tank. (The Limitations Section of the AFM for McDonnell Douglas Model MD-10 series airplanes already prohibits resetting the fuel pump circuit breaker; therefore, these airplanes are not subject to this unsafe condition.)

Explanation of Relevant Service Information

The FAA has reviewed and approved Boeing Flight Operations Bulletin DC-10-00-01A, MD-11-00-03A, and MD-10-00-02A, dated September 20, 2000. The flight operations bulletin provides instructions for revising the Procedures Section of the FAA-approved AFM by inserting certain Interim Operating Procedures (IOP). These IOP's advise the flight crew of proper procedures for disabling certain fuel pump electrical circuits following failure of a fuel pump electrical connector.

Explanation of the Requirements of the Rule

Since an unsafe condition has been identified that is likely to exist or develop on other airplanes of the same type design, this AD is being issued to prevent continued arcing following a short circuit of the fuel pump electrical connector, which could damage the conduit that protects the power lead inside the fuel tank, and result in the creation of a potential ignition source in the fuel tank. This AD requires accomplishment of the actions specified in the flight operations bulletin described previously. For certain airplanes, this AD also requires revising the Limitations Section of the FAA-approved AFM to prohibit resetting of any fuel pump circuit breakers.

Interim Action

This is considered to be interim action. The manufacturer has advised that it currently is developing an inspection and a modification that will positively address the unsafe condition addressed by this AD. Once these actions are developed, approved, and available, the FAA may consider additional rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-345-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-21 McDonnell Douglas: Amendment 39-11969. Docket 2000-NM-345-AD.

Applicability: All Model DC-10, Model MD-10, and Model MD-11 series airplanes; certificated in any category.

Compliance: Required as indicated, unless accomplished previously.

To prevent continued arcing following a short circuit of the fuel pump electrical connector, which could damage the conduit that protects the power lead inside the fuel tank, and result in the creation of a potential ignition source in the fuel tank, accomplish the following:

Airplane Flight Manual (AFM) Revision (Procedures Section)

(a) Within 14 days after the effective date of this AD, insert applicable Interim Operating Procedures regarding abnormal operations for fuel pump electrical connector failures into the Procedures Section of the FAA-approved AFM, in accordance with Boeing Flight Operations Bulletin DC-10-00-01A, MD-11-00-03A, and MD-10-00-02A, dated September 20, 2000.

Airplane Flight Manual Revision (Limitations Section)

(b) For Model DC-10 and Model MD-11 series airplanes: Within 14 days after the effective date of this AD, insert the following information into the “Fuel Management” paragraph of the Limitations Section of the FAA-approved AFM which may be accomplished by inserting a copy of this AD into the AFM.

“Do not reset any tripped fuel pump circuit breakers.”

Note 1: If the information in paragraph (b) of this AD is already in the “Fuel Management” paragraph of the Limitations Section of the AFM, no further action is required by paragraph (b) of this AD.

Alternative Methods of Compliance

(c) An alternative method of compliance or adjustment of the compliance time that provides an acceptable level of safety may be used if approved by the Manager, Los Angeles Aircraft Certification Office (ACO), FAA. Operators shall submit their requests through an appropriate FAA Principal Operations Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (b) of this AD, the AFM revision shall be done in accordance with Boeing Flight Operations Bulletin DC-10-00-01A, MD-11-00-03A, and MD-10-00-02A, dated September 20, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

Effective Date

(f) This amendment becomes effective on December 5, 2000.

Issued in Renton, Washington, on November 1, 2000.
Donald L. Riggin,
Acting Manager, Transport Airplane Directorate, Aircraft Certification Service.

[FR Doc. 00-28478 Filed 11-17-00; 8:45 am]

BILLING CODE 4910-13-P